DEPARTMENT OF ENERGY

Federal Energy Regulatory Commission

[Docket No. RP96-347-020]

Northern Natural Gas Company; Notice of Tariff Filing

November 6, 2000.

Take notice that on October 31, 2000, Northern Natural Gas Company (Northern) tendered for filing to become part of Northern's FERC Gas Tariff, Fifth Revised Volume No. 1, the following tariff sheets to be effective December 1, 2000:

Fourth Revised Sheet No. 263H

Third Revised Sheet No. 263H.1

Alternate Fourth Revised Sheet No. 263H

Alternate Third Revised Sheet No. 263H.1

Northern states that Tariff Sheet Nos. 263H and 263H.1 reflect the Sourcers' flow obligation after the Appendix B customers' election to source or buyout based on the 2000 Carlton Settlement pending before the Commission as well as Northern's current tariff.

Northern states that copies of the filing were served upon Northern's customers and interested State Commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 00-28927 Filed 11-9-00; 8:45 am]

BILLING CODE 6717-01-M